DEPARTMENT OF ENERGY

Federal Energy Regulatory Commission

[Docket No. RP04-204-001]

Northern Border Pipeline Company; Notice of Compliance Filing

May 6, 2004.

Take notice that on April 29, 2004, Northern Border Pipeline Company (Northern) tendered for filing to become part of its FERC Gas Tariff, First Revised Volume No. 1, the following tariff sheets to become effective the earlier of September 1, 2004, or on a date the Commission specifies in any future order in this proceeding:

Fourth Revised Sheet No. 98

Original Sheet No. 188A

Substitute First Revised Sheet No. 186

First Revised Sheet No. 192

Substitute First Revised Sheet No. 187

Seventh Revised Sheet No. 212

Original Sheet No. 187A

Sixth Revised Sheet No. 214A

First Revised Sheet No. 188

Substitute Third Revised Sheet No. 467

Northern Border states that this filing is made to comply with the Commission's order issued on March 30, 2004, in Docket No. RP04-204-000.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1089 Filed 5-12-04; 8:45 am]

BILLING CODE 6717-01-P